DEPARTMENT OF STATE

[Public Notice 11229]

60-Day Notice of Proposed Information Collection: FLO Professional Development Fellowship (PDF) Application

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to January 11, 2021.

ADDRESSES: You may submit comments by the following method:

• Web: Persons with access to the internet may comment on this notice by going to www.Regulations.gov. You can search for the document by entering “Docket Number: DOS-2020-0043” in the Search field. Then click the “Comment Now” button and complete the comment form.

You must include the DS form number (if applicable), information collection title, and the OMB control number in any correspondence.

SUPPLEMENTARY INFORMATION:

• Title of Information Collection: FLO Professional Development Fellowship (PDF) Application.

• OMB Control Number: 1405-0229.

• Type of Request: Revision of a Currently Approved Collection.

• Originating Office: Bureau of Global Talent Management, Family Liaison Office (GTM/FLO).

• Form Number: DS-4297.

• Respondents: The PDF program is open to spouses and partners of direct-hire U.S. government employees from all agencies serving overseas under Chief of Mission authority.

• Estimated Number of Respondents: 260.

• Estimated Number of Responses: 260.

• Average Time per Response: 2.75 hours.

• Total Estimated Burden Time: 715 hours.

• Frequency: Annually.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Family Liaison Office (FLO) needs the information collected in the PDF application to determine who will receive a Professional Development Fellowship. The information is provided to selection committees that use a set of criteria to score the applications. Respondents are spouses and partners of direct-hire U.S. government employees from all agencies serving overseas under Chief of Mission who want to develop, maintain, and/or refresh their professional skills while overseas. The information is sought pursuant to 22 U.S.C § 2651a—Organization of Department of State, 22 U.S.C § 3921—Management of the Foreign Service.

Methodology

Applicants will email the completed application to FLO's PDF program manager.

Zachary Parker,
Director.

[FR Doc. 2020-24893 Filed 11-9-20; 8:45 am]

BILLING CODE 4710-15-P